DEPARTMENT OF THE TREASURY

Government Securities: Call for Large Position Reports

AGENCY: Office of the Assistant Secretary for Financial Institutions, Treasury.

ACTION: Notice.

SUMMARY: The Department of the Treasury (“Department” or “Treasury”) called for the submission of Large Position Reports by those entities whose reportable positions in the 4⅞% Treasury Notes of May 2008 equaled or exceeded $2 billion as of close of business June 28, 2006.

DATES: Large Position Reports must be received before noon Eastern Time on July 12, 2006.

ADDRESSES: The reports must be submitted to the Federal Reserve Bank of New York, Government Securities Dealer Statistical Unit, 4th Floor, 33 Liberty Street, New York, New York 10045; or faxed to 212-720-5030.

FOR FURTHER INFORMATION CONTACT: Lori Santamorena, Executive Director; Lee Grandy, Associate Director; or Kevin Hawkins, Government Securities Specialist; Bureau of the Public Debt, Department of the Treasury, at 202-504-3632.

SUPPLEMENTARY INFORMATION: In a press release issued on July 5, 2006, and in this Federal Register notice, the Treasury called for Large Position Reports from entities whose reportable positions in the 4⅞% Treasury Notes of May 2008, Series V-2008, equaled or exceeded $2 billion as of the close of business Wednesday, June 28, 2006. This call for Large Position Reports is a test pursuant to the Department's large position reporting rules under the Government Securities Act regulations (17 CFR part 420). Entities whose reportable positions in this note equaled or exceeded the $2 billion threshold must report these positions to the Federal Reserve Bank of New York. Entities with positions in this note below $2 billion are not required to File reports. Large Position Reports must be received by the Government Securities Dealer Statistical Unit of the Federal Reserve Bank of New York before noon Eastern Time on Wednesday, July 12, 2006, and must include the required position and administrative information. The Reports may be faxed to (212) 720-5030 or delivered to the Bank at 33 Liberty Street, 4th floor.

The 4⅞% Treasury Notes of May 2008, Series V-2008, have a CUSIP number of 912828 FG 0, a STRIPS principal component CUSIP number of 912820 ND 5, and a maturity date of May 31, 2008.

The press release and a copy of a sample Large Position Report, which appears in Appendix B of the rules at 17 CFR part 420, are available at the Bureau of the Public Debt's Internet site at http://www.publicdebt.treas.gov.

Questions about Treasury's large position reporting rules should be directed to Treasury's Government Securities Regulations Staff at Public Debt on (202) 504-3632. Questions regarding the method of submission of Large Position Reports should be directed to the Government Securities Dealer Statistical Unit of the Federal Reserve Bank of New York at (212) 720-7993.

The collection of large position information has been approved by the Office of Management and Budget pursuant to the Paperwork Reduction Act under OMB Control Number 1535-0089.

Dated: July 5, 2006.
Emil W. Henry, Jr.,
Assistant Secretary, Financial Institutions.

[FR Doc. 06-6084 Filed 7-5-06; 1:13 pm]

BILLING CODE 4810-39-M